DEPARTMENT OF COMMERCE

Foreign-Trade Zones Board

[Order No. 1857]

Reorganization and Expansion of Foreign-Trade Zone 220 Under Alternative Site Framework; Sioux Falls, SD

Pursuant to its authority under the Foreign-Trade Zones Act of June 18, 1934, as amended (19 U.S.C. 81a-81u), the Foreign-Trade Zones Board (the Board) adopts the following Order:

Whereas, the Board adopted the alternative site framework (ASF) (15 CFR 400.2(c)) as an option for the establishment or reorganization of zones;

Whereas, the Sioux Falls Development Foundation, grantee of Foreign-Trade Zone 220, submitted an application to the Board (FTZ Docket B-35-2012, filed 05/07/2012) for authority to reorganize and expand under the ASF with a service area of Bon Homme, Brookings, Clay, Davison, Duel, Hamlin, Hanson, Hutchinson, Kingsbury, Lake, Lincoln, McCook, Miner, Minnehaha, Moody, Sanborn, Turner, Union and Yankton Counties, South Dakota, within and adjacent to the Sioux Falls U.S. Customs and Border Protection port of entry, FTZ 220's existing Sites 1, 2 and 3 would be categorized as magnet sites, a parcel of Site 5 would be renumbered to create new usage-driven Site 7, existing Sites 4 and 6 and the remainder of Site 5 would be categorized as usage-driven sites, and the grantee proposes one additional initial usage-driven site (Site 8);

Whereas, notice inviting public comment was given in the Federal Register (77 FR 27714, 05/11/2012) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to reorganize and expand FTZ 220 under the alternative site framework is approved, subject to the FTZ Act and the Board's regulations, including Section 400.13, to the Board's standard 2,000-acre activation limit for the zone, to a five-year ASF sunset provision for magnet sites that would terminate authority for Sites 1 and 3 if not activated by September 30, 2017, and to a three-year ASF sunset provision for usage-driven sites that would terminate authority for Sites 4, 5, 6, 7 and 8 if no foreign-status merchandise is admitted for a bona fide customs purpose by September 30, 2015.

Signed at Washington, DC, this 20th day of September 2012.
Paul Piquado,
Assistant Secretary of Commerce for Import Administration, Alternate Chairman, Foreign-Trade Zones Board.
Andrew McGilvray,
Executive Secretary.

[FR Doc. 2012-24128 Filed 9-28-12; 8:45 am]

BILLING CODE P